DEPARTMENT OF COMMERCE

National Oceanic and Atmospheric Administration

50 CFR Part 660

[Docket No. 200505-0127; RTID 0648-XB031]

Fisheries Off West Coast States; Modifications of the West Coast Commercial and Recreational Salmon Fisheries; Inseason Actions #10 Through #16

AGENCY: National Marine Fisheries Service (NMFS), National Oceanic and Atmospheric Administration (NOAA), Commerce.

ACTION: Inseason modification of 2021 management measures.

SUMMARY: NMFS announces seven inseason actions in the 2021 ocean salmon fisheries. These inseason actions modified the commercial salmon fisheries in the area from the U.S./Canada border to the U.S./Mexico border.

DATES: The effective dates for the inseason actions are set out in this document under the heading Inseason Actions.

FOR FURTHER INFORMATION CONTACT: Christina Iverson at 360-742-2506, Email: Christina.iverson@noaa.gov.

SUPPLEMENTARY INFORMATION:

Background

In the 2020 annual management measures for ocean salmon fisheries (85 FR 27317, May 8, 2020), NMFS announced management measures for the commercial and recreational fisheries in the area from U.S./Canada border to the U.S./Mexico border, effective from 0001 hours Pacific Daylight Time (PDT), May 6, 2020, until the effective date of the 2021 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions). The state management agencies that participated in the consultations described in this document were: The Washington Department of Fish and Wildlife, the Oregon Department of Fish and Wildlife (ODFW) and the California Department of Fish and Wildlife (CDFW).

Management Areas

Management of the salmon fisheries is generally divided into two geographic areas: North of Cape Falcon (NOF) (U.S./Canada border to Cape Falcon, OR) and south of Cape Falcon (SOF) (Cape Falcon, OR, to the U.S./Mexico border). The actions described in this document affected both NOF and SOF fisheries as set out under the heading Inseason Actions.

Reason and Authorization for SOF Inseason Actions #10-#14

The fisheries affected by the inseason actions described below were authorized in the final rule for 2020 annual management measures for ocean salmon fisheries (85 FR 27317, May 8, 2020). At its March 10, 2021 meeting, the Council's Salmon Technical Team (STT) presented updated stock abundance forecasts for salmon stocks managed under the Pacific Coast Salmon Fishery Management Plan (FMP). Based on the STT's report, SOF ocean salmon fisheries will be constrained in 2021 by the low abundance forecast for Klamath River fall-run Chinook salmon (KRFC), which was determined to be overfished under the Magnuson-Stevens Fishery Conservation and Management Act (MSA) in 2018. The forecast of potential spawner abundance for KRFC in 2021 is 42,098 natural area spawners; which is below the 2020 potential spawner forecast of 48,274, and is 31 percent of the average forecast of potential KRFC spawners over the previous 9 years (2012-2020). To reduce ocean salmon fishery impacts on KRFC, NMFS took 9 inseason actions concurrent with the March Council meeting to restrict some fisheries that were previously scheduled to open prior to May 16, 2021 (86 FR 16540, March 30, 2021). At its April 6-15, 2021 meeting, the Council finalized development of its recommended 2021 ocean salmon management measures.

NMFS took additional inseason actions, described below, to manage and conserve SOF ocean salmon fishery impacts on overfished KRFC by reducing impacts in spring fisheries through closure or shortened fisheries in areas that impact KRFC consistent with its forecasted abundance in 2021 and conservation goals.

The NMFS West Coast Regional Administrator (RA) considered the abundance forecasts for Chinook salmon stocks and the impacts of the SOF ocean salmon fisheries, as modeled by the STT, and determined that the inseason actions, described below, were necessary to meet management and conservation goals set preseason. These inseason actions modify boundaries under 50 CFR 660.409(b)(1)(v) and fishing seasons under 50 CFR 660.409(b)(1)(i).

Consultation under 50 CFR 660.409(b) on these inseason actions occurred on April 15, 2021. Representatives from NMFS, ODFW, CDFW, and Council staff participated in this consultation.

Reason and Authorization for NOF Inseason Actions #15-#16

The fisheries affected by the inseason actions described below were authorized in the final rule for 2020 annual management measures for ocean salmon fisheries (85 FR 27317, May 8, 2020). At the April 6-15, 2021 meeting, the Council finalized development of its recommended 2021 ocean salmon management measures. This included final model runs of exploitation rates based on a Chinook salmon retention size for NOF commercial fisheries of 27 inches. The results as modeled did not indicate a change in the exploitation rates previously modeled with the 28 inch retention size, and would continue to meet conservation objectives.

NMFS is taking these inseason actions to provide consistency between fisheries authorized under the 2020 management measures and fisheries adopted at the April Council meeting for 2021, which NMFS is expected to enact by May 16, 2021.

The NMFS West Coast Regional Administrator (RA) considered the abundance forecasts for Chinook salmon stocks and the impacts of the NOF ocean salmon fisheries, as modeled, and determined that the inseason actions, described below, were necessary to meet management and conservation goals set preseason. These inseason actions modify fishing seasons under 50 CFR 660.409(b)(1)(i).

Consultation under 50 CFR 660.409(b) on these inseason actions occurred on April 20, 2021. Representatives from NMFS, ODFW, WDFW, and Council staff participated in this consultation.

Inseason Actions

Inseason Action #10

Description of the action: Inseason action #10 closes the commercial ocean salmon fishery from Cape Falcon to Heceta Bank Line fishery from May 6-May 9, 2021. This fishery is now scheduled to be open March 20-May 5, 2021, and May 10-May 15, 2021.

Effective dates: Inseason action #10 took effect on April 15, 2021, and remains in effect until superseded.

Inseason Action #11

Description of the action: Inseason action #11 supersedes inseason action #3 which delayed the opening of the commercial ocean salmon fishery from the Heceta Bank Line to Humbug Mountain previously scheduled to open March 15, 2021. This fishery is now scheduled to be open May 1-5, 2021, and May 10-15, 2021.

Effective dates: Inseason action #11 took effect on April 15, 2021, and remains in effect until superseded.

Inseason Action #12

Description of the action: Inseason action #12 closes the commercial ocean salmon fishery from Humbug Mountain to the Oregon/California border (Oregon Klamath Management Zone) from May 6-May 9, 2021. This fishery is now scheduled to be open March 20-May 5, 2021, and May 10-May 15, 2021.

Effective dates: Inseason action #12 took effect April 15, 2021, and remains in effect until superseded.

Inseason Action #13

Description of the action: Inseason action #13 delayed the opening date of the commercial ocean salmon fishery from Point Arena to Pigeon Point (San Francisco management area) which was previously scheduled to open May 1, 2021. This fishery is now scheduled to be open June 16-June 30, 2021.

Effective dates: Inseason action #13 took effect April 15, 2021, and remains in effect until superseded.

Inseason Action #14

Description of the action: Inseason action #14 modifies the commercial ocean salmon fishery from Pigeon Point to the U.S./Mexico border (Monterey management area) which was previously scheduled to open May 1-May 12, 2021, and May 18-May 30, 2021. This fishery is now scheduled to be open May 1-May 12, 2021.

Effective dates: Inseason action #14 took effect April 15, 2021, and remains in effect until superseded.

Inseason Action #15

Description of the action: Inseason action #15 modifies the Chinook salmon minimum size limit in the commercial ocean salmon fishery from the U.S./Canada border to Cape Falcon, OR. The Chinook salmon minimum size limit in this fishery was 28 inches (71.1 cm) total length, inseason action #15 changes the minimum size limit to 27 inches (68.6 cm) total length.

Effective dates: Inseason action #15 takes effect April 20, 2021, and remains in effect until superseded.

Inseason Action #16

Description of the action: Inseason action #16 revised the quota and subarea catch limits for the commercial salmon fishery from the U.S./Canada border that opens May 1, 2021. The May-June quota increased from 13,820 Chinook salmon to 15,375 Chinook salmon, no more than 5,680 of which may be caught in the area between the U.S./Canada border and the Queets River, and no more than 4,195 of which may be caught in the area between Leadbetter Pt. and Cape Falcon.

Effective dates: Inseason action #16 took effect April 20, 2021, and remains in effect until superseded.

All other restrictions and regulations remain in effect as announced for the 2020 ocean salmon fisheries (85 FR 27317, May 8, 2020) and as modified by previous inseason actions (85 FR 31707, May 27, 2020; 85 FR 55784, September 10, 2020; 86 FR 13824, March 11, 2021; and 86 FR 16540, March 30, 2021).

The RA determined that these inseason actions were warranted based on the best available information on Pacific salmon abundance forecasts and anticipated fishery effort. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b), and is exempt from review under Executive Order 12866—Regulatory Planning and Review.

Pursuant to 5 U.S.C. 553(b)(B), there is good cause to waive prior notice and an opportunity for public comment on these actions, as notice and comment would be impracticable and contrary to the public interest. Prior notice and opportunity for public comment on these actions was impracticable because NMFS had insufficient time to provide for prior notice and the opportunity for public comment between the time Chinook salmon abundance, catch, and effort information was developed and fisheries impacts were calculated, and the time the fishery modifications had to be implemented in order to ensure that fisheries are managed based on the best available scientific information, ensuring that conservation objectives and limits for impacts to overfished salmon stocks are not exceeded. As previously noted, actual notice of the regulatory action was provided to fishers through telephone hotline and radio notification. This action complies with the requirements of the annual management measures for ocean salmon fisheries (85 FR 27317, May 8, 2020), the FMP, and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: April 29, 2021.
Jennifer M. Wallace,
Acting Director, Office of Sustainable Fisheries, National Marine Fisheries Service.

[FR Doc. 2021-09427 Filed 4-30-21; 4:15 pm]

BILLING CODE 3510-22-P